DEPARTMENT OF ENERGY

Environmental Management Site-Specific Advisory Board, Savannah River Site

AGENCY: Office of Environmental Management, Department of Energy.

ACTION: Notice of open meeting: correction.

SUMMARY: On February 20, 2019, the Department of Energy published a notice of open meeting announcing a meeting on March 25-26, 2019, of the Environmental Management Site-Specific Advisory Board, Savannah River Site. This document makes a correction to that notice.

FOR FURTHER INFORMATION CONTACT: Amy Boyette, Office of External Affairs, Department of Energy, Savannah River Operations Office, P.O. Box A, Aiken, SC, 29802; Phone: (803) 952-6120.

Corrections

In the Federal Register of February 20, 2019, in FR Doc. 2019-02797, on page 5066, please make the following correction:

Under ADDRESSES, third column, third paragraph, the meeting address has been changed. The original address was Partridge Inn, 2110 Walton Way, Augusta, Georgia 30904. The new address is Savannah Rapids Pavilion, 3300 Evans to Locks Road, Martinez, Georgia 30907.

Signed in Washington, DC, on March 7, 2019.
LaTanya Butler,
Deputy Committee Management Officer.

[FR Doc. 2019-04629 Filed 3-12-19; 8:45 am]

BILLING CODE 6450-01-P